DEPARTMENT OF COMMERCE

International Trade Administration

[A-580-905]

4th Tier Cigarettes From the Republic of Korea: Postponement of Final Determination of Sales at Less-Than-Fair-Value Investigation

AGENCY: Enforcement and Compliance, International Trade Administration, Department of Commerce.

SUMMARY: The Department of Commerce (Commerce) is postponing the deadline for issuing the final determination in the less-than-fair-value (LTFV) investigation of 4th tier cigarettes from the Republic of Korea (Korea) until December 4, 2020, and is extending the provisional measures from a four-month period to a period of not more than six months.

DATES: Applicable August 19, 2020.

FOR FURTHER INFORMATION CONTACT: Thomas Martin at (202) 482-3936, AD/CVD Operations, Enforcement and Compliance, International Trade Administration, U.S. Department of Commerce, 1401 Constitution Avenue NW, Washington, DC 20230.

SUPPLEMENTARY INFORMATION:

Background

On January 7, 2020, Commerce initiated an LTFV investigation of imports of 4th tier cigarettes from Korea.¹ The period of investigation is October 1, 2018 through September 30, 2019. On July 22, 2020, Commerce published its Preliminary Determination in this LTFV investigation.²

¹ See 4th Tier Cigarettes from the Republic of Korea: Initiation of Less-Than-Fair-Value Investigation, 85 FR 2390 (January 15, 2020).

² See 4th Tier Cigarettes from the Republic of Korea: Preliminary Affirmative Determination of Sales at Less Than Fair Value, and Preliminary Negative Determination of Critical Circumstances, 85 FR 44281 (July 22, 2020) (Preliminary Determination), and accompanying Preliminary Decision Memorandum.

Postponement of Final Determination

Section 735(a)(2) of the Tariff Act of 1930, as amended (the Act), and 19 CFR 351.210(b)(2) provide that a final determination may be postponed until not later than 135 days after the date of the publication of the preliminary determination if, in the event of an affirmative preliminary determination, a request for such postponement is made by the exporters or producers who account for a significant proportion of exports of the subject merchandise, or in the event of a negative preliminary determination, a request for such postponement is made by the petitioner. Further, 19 CFR 351.210(e)(2) requires that such postponement requests by exporters be accompanied by a request for extension of provisional measures from a four-month period to a period of not more than six months, in accordance with section 733(d) of the Act.

On July 22, 2020, KT&G Corporation (KT&G), the mandatory respondent in this investigation, requested that Commerce postpone the deadline for the final determination until no later than 135 days from the publication of the Preliminary Determination; and on July 28, 2020, KT&G requested that Commerce extend the application of the provisional measures from a four-month period to a period of not more than six months.³ In accordance with section 735(a)(2)(A) of the Act and 19 CFR 351.210(b)(2)(ii), because: (1) The preliminary determination was affirmative; (2) the request was made by the exporter and producer who accounts for a significant proportion of exports of the subject merchandise; and (3) no compelling reasons for denial exist, Commerce is postponing the final determination until no later than 135 days after the date of the publication of the Preliminary Determination, and extending the provisional measures from a four-month period to a period of not more than six months. Accordingly, Commerce will issue its final determination no later than December 4, 2020.

³ See KT&G's Letter, “4th Tier Cigarettes from the Republic of Korea: Request for Postponement of Final Determination,” dated July 22, 2020; and KT&G's Letter, “4th Tier Cigarettes from the Republic of Korea: Request to Extend Provisional Measures Period,” dated July 28, 2020.

Notice to Interested Parties

This notice is issued and published pursuant to section 735(a)(2) of the Act and 19 CFR 351.210(g).

Dated: August 13, 2020.
Jeffrey I. Kessler,
Assistant Secretary for Enforcement and Compliance.

[FR Doc. 2020-18155 Filed 8-18-20; 8:45 am]

BILLING CODE 3510-DS-P